DEPARTMENT OF STATE

[Public Notice 5686]

Bureau of Educational and Cultural Affairs (ECA) Request for Grant Proposals: Fulbright Student Program

Announcement Type: New Cooperative Agreement.

Funding Opportunity Number: ECA/A/E-08-01.

Catalog of Federal Domestic Assistance Number: 19.400.

Key Dates:

Application Deadline: May 3, 2007.

Executive Summary: The Office of Academic Exchange Programs (ECA/A/E) of the Bureau of Educational and Cultural Affairs, U.S. Department of State announces an open competition for one or more assistance awards to provide administrative services for the Fulbright Student Program in Fiscal Year 2008. Public and private non-profit organizations or consortia of eligible organizations meeting the provisions described in Internal Revenue Code section 501(c)(3) may submit proposals to cooperate with the Bureau in the administration and implementation of one or more of the following program components:

• For U.S. students: the Fulbright U.S. Student Program.

• For foreign students administered by world geographic region: the Fulbright Foreign Student Program.

• For foreign students administered globally: the International Fulbright Science and Technology Award, the Fulbright Foreign Language Teaching Assistant Program, pre-academic training, orientation programs, and enrichment activities.

It is anticipated that the total amount of funding available for all FY 2008 administrative costs to support the program components listed above will be $10,000,000 and will involve management of 4,090 new students.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries . . .; to strengthen the ties which unite us with other nations by demonstrating the educational and cultural interests, developments, and achievements of the people of the United States and other nations . . . and thus to assist in the development of friendly, sympathetic and peaceful relations between the United States and the other countries of the world.” The funding authority for the program above is provided through legislation.

Purpose

The Fulbright Program is the U.S. government's premier program for international academic exchange and one of our nation's most important investments in improving international relations between the U.S. and other countries through the development of future leaders in virtually every area of endeavor. It was created by the U.S. Congress after World War II to exchange U.S. and foreign students, scholars and teachers to provide them opportunities to experience firsthand the political, economic and cultural institutions in each other's countries and thus help establish a basis for international mutual understanding and peaceful interaction. It now extends to over 150 countries worldwide and awards approximately 7,000 new and renewal grants to American and foreign participants each year. The Fulbright Program focuses on leadership development and counts among its 270,000 alumni world leaders in every profession and field of endeavor.

A hallmark of the Fulbright Program is binationalism. The United States and foreign governments, U.S. and foreign educational and other public and private institutions are all partners in this exchange. Program priorities are developed between the U.S. and foreign partners and in many countries of the world, financial contributions from governments or public/private sources match or exceed those of the United States.

Administration of the Fulbright Program is programmatically and administratively complex. It must accommodate a variety of circumstances in every geographic region of the world and be responsive to and supportive of many different constituencies in the United States and abroad, each with its own sets of goals and concerns. The integrity of the Program requires maintenance of the highest and most consistent standards of academic and professional quality in the selection of candidates and the implementation of projects. While the Program is active in many countries, it is important that it maintain a single world-wide identity. Overall policy guidelines and selection criteria for all Fulbright programs are determined by the Presidentially appointed J. William Fulbright Foreign Scholarship Board, while responsibility for conducting the program is assigned to the Bureau of Educational and Cultural Affairs of the Department of State.

Description of the Fulbright Student Program

The Fulbright Student Program offers scholarships to recent U.S. and foreign college and university graduates, advanced graduate students including those pursuing doctoral degrees, and creative artists to study and conduct research abroad and in the United States. A basic premise of the Fulbright program remains the selection of all participants through an open and transparent merit-based competition.

U.S. Student Program

Only one cooperative agreement will be awarded for all administrative services for the Fulbright U.S. Student Program. Under the U.S. Fulbright program, graduating college seniors or developing artists and professionals or graduate students who are U.S. citizens are awarded scholarships each year through a competitive process to study and undertake research at institutions in countries overseas. Students must hold a bachelor's degree, or its equivalent, before the start of the grant. Award opportunities for U.S. students are determined overseas by binational Fulbright commissions and U.S. embassies, in coordination with the Bureau of Educational and Cultural Affairs in Washington. In FY 2008, the Fulbright U.S. Student Program expects to send abroad approximately 1,400 U.S. students, developing professionals and artists to study and conduct research.

In addition to “traditional” research awards, candidates for awards under the U.S. student program may apply for Fulbright English Teaching Assistantships. Fulbright English Teaching Assistants (ETA) teach English language and conversation classes in secondary schools and universities abroad while simultaneously pursuing individual study and research plans.

Candidates may also apply for Fulbright Islamic Civilization Initiative awards. These awards are intended to enhance Americans' knowledge of Islam and Islamic culture through the Fulbright students' sharing of their overseas experience.

U.S. students applying for a Fulbright grant to a country targeted under the National Security Language Initiative may request an enhancement of their award to provide up to six months in-country language training prior to beginning their research project. This initiative includes Arabic, Chinese, Russian, Korean, and the Turkic, Indic and Persian languages.

Foreign Student Program

One or more grants will be awarded for administration of the Fulbright Foreign Student Program. Section II below contains detailed information on applying to administer all or parts of the Foreign Student Program.

Fulbright foreign student candidates are nominated through open, merit-based competitions in each participating country, conducted by a binational Fulbright commission or, in the absence of a commission, by the Public Affairs Section (PAS) of U.S. embassies. Scholarship opportunities for foreign students are determined through consultations between commissions or embassies and the Bureau similar to the process for the U.S. Student Program nominees. The Fulbright Scholarship Board makes the final selection of all Fulbright nominees.

The Fulbright Foreign Student Program expects to bring to this country approximately 2,685 new foreign students for study and research in the United States for FY 2008. This total includes new foreign students in the two activities listed immediately below. Applicants for this administrative award(s) should submit program proposals and budget projections for new FY 2008 students only. Awards to foreign students from prior years will be administered by the organizations currently administering the program.

In addition to the traditional foreign student program operating binationally in more than 150 countries, the Fulbright Foreign Student Program also includes two special activities that are competed and funded on a worldwide basis: the International Fulbright Science and Technology Award and the Fulbright Foreign Language Teaching Assistant Program.

The International Fulbright Science and Technology award (S&T) for outstanding foreign students is designed to be among the most prestigious international scholarships in science and technology. Approximately 40 awards will be funded in FY 2008 for Ph.D. study at a top U.S. academic institution in science, technology or engineering. Applicants will apply through Fulbright commissions or U.S. embassies in their country of citizenship. Awards will be made to candidates who demonstrate unique aptitude and innovation in scientific fields.

The Fulbright Foreign Language Teaching Assistant Program (FLTA) aims to strengthen foreign language instruction at U.S. educational institutions while providing young teachers or teacher trainees of English as a Foreign Language the opportunity to refine their teaching skills, increase their English language proficiency, and broaden their knowledge of American society and culture. The FLTA is another key component of the National Security Language Initiative. Fellows are placed for an academic year at a U.S. university where they teach their native language and enroll in at least two courses in U.S. studies or teaching methodology. Languages taught by FLTA participants may include Arabic, Bengali, Chinese, French, Dari, Gaelic, German, Hausa, Hindi, Indonesian, Italian, Korean, Malay, Mongolian, Pashto, Russian, Spanish, Swahili, Tagalog, Tajik, Thai, Turkish, Urdu, and Wolof. In FY 2008, the Bureau intends to fund 400 FLTAs of whom 300 will be in the strategic languages identified under the NSLI program.

Orientation and Enrichment Programs

The Bureau funds centrally a range of activities designed to deepen the mutual understanding foundation of the Fulbright Program. These activities are primarily related to orientation and enrichment. The activities include pre-academic English language and field of study programs in law and economics; three-day entry orientation programs designed to introduce Fulbright students to American academic life; and enrichment seminars for first year Fulbright foreign students.

Management of the Fulbright Student Program is shared among the Office of Academic Exchange Programs (ECA/A/E) of the U.S. Department of State in Washington, bilateral Fulbright commissions in 50 countries, Public Affairs Sections (PAS) of more than 100 U.S. embassies abroad, and cooperating private sector organizations in the United States. Grantee cooperating agencies must ensure full and proper identification of the Fulbright program with the U.S. government and the Department of State.

The Bureau will work cooperatively and closely with the recipient(s) of cooperative agreement award(s), provide guidance and maintain a regular dialogue on administrative and program issues and questions as they arise over the duration of the award.

Bureau activities and responsibilities for this program include:

(1) Participation in the design and direction of program activities;

(2) Approval of key personnel;

(3) Approval and input on program timelines, agendas and administrative procedures;

(4) Guidance in execution of all program components;

(5) Review and approval of all program publicity and recruitment materials;

(6) Approval of participating students, in cooperation with Fulbright commissions and U.S. embassies, subject to final selection by the Fulbright Board;

(7) Approval of changes to students' proposed academic field, academic program, or institution;

(8) Approval of decisions related to special circumstances or problems throughout the duration of program;

(9) Assistance with non-immigration status and other SEVIS-related issues;

(10) Assistance with participant emergencies;

(11) Liaison with relevant U.S. embassies, Fulbright commissions and country desk officers at the State Department.

Programs must conform with Bureau requirements and guidelines outlined in the Solicitation Package which includes the Request for Grant Proposals (RFGP), the Project Objectives, Goals and Implementation (POGI) and the Proposal Submission Instructions (PSI).

Guidelines

Applicant organizations are requested to submit a narrative outlining a comprehensive strategy for the administration and implementation of the Fulbright Student Programs for which they are applying. The comprehensive program strategy should reflect a vision for the Program as a whole, interpreting the goals of the Fulbright Student Program with creativity, as well as providing innovative ideas and recommendations for the Program. The Bureau places a priority on insuring that the positive impact of the Fulbright Student Program is visible to the public in U.S. and campus communities and applicants should outline a plan to work with the media and other organizations to insure that the program and its scholarship awards receive appropriate publicity.

Program For U.S. Students

Services under this cooperative agreement will begin with the organization of nominating merit review panels for candidates for scholarships beginning in academic year 2008-2009 and include the recruitment of students for academic year 2009-2010.

Screening and Selection Process: Applicant organizations should present a plan to pre-screen for eligibility all electronic applications previously received from U.S. program applicants for academic year 2008-09 and convene national review panels composed of area and subject experts to determine which applicants will be nominated based upon proven merit, project proposal feasibility and factors that help present a truly national character in the pool, who will be recommended to PAS and Fulbright commissions overseas and to the J. William Fulbright Foreign Scholarship Board.

Program Management: Applicants should outline in their proposals plans for tracking and monitoring participants; development and maintenance of an electronic database on participants; and the preparation of statistical reports on the distribution of awards.

Post-Nomination Services: The narrative should include a description of how the cooperative agreement recipient(s) will inform successful candidates of their selection, and non-selected candidates and alternates of their status; provide award packages for students as required; respond to queries from participants; assist with pre-departure orientation as requested; electronically maintain data on participants; evaluate participants' health status and provide Bureau health insurance; monitor participants and provide participants' reports and analyses of these reports to the Bureau; and assist with emergencies.

Fiscal Management: Applicants should describe how the cooperating agency will manage electronic disbursement of payments to participants; provide quarterly reports on actual and projected expenditures; provide statistical, insurance and other reports; and monitor and audit internal functions and systems in accordance with U.S. government and Bureau guidelines.

Recruitment: Provide a comprehensive plan for the recruitment of U.S. students for all programs for academic year 2009-2010. Proposals should offer imaginative strategies for the recruitment of U.S. students and plans to enhance the visibility of the program, with particular focus on the recruitment of groups currently under-represented in the Fulbright program.

Publicity and Applications: The recipient of the cooperative agreement award will be responsible for establishing and maintaining a Web site for the U.S. student program which should include provision for electronically submitted applications. Please outline in detail your plans for the announcement of scholarship opportunities for academic year 2009-2010, application packets, an annual directory of student participants, and publicity for the program in the U.S. Proposals should delineate an outreach and recruitment strategy, with a strong focus on diversity, which might include written and electronic publications, professional networking, media relations, outreach to potential applicants, universities and others.

Programs for Foreign Students

Provide a plan for administration and implementation of the Foreign Student Program(s), indicating precisely the programs for which you are applying. Describe your capacities for administering the programs and provide detailed information on how you will perform the following duties:

Program Planning and Management: The award recipient(s) will be responsible for placement of foreign students for academic year 2008-09 at U.S. institutions, as needed; the development of significant U.S. institutional and private sector funding and cost sharing for grants; developing recommendations on participants' living allowances; producing an electronic participants database and special reports. Proposals should offer strategies for placement and plans to enhance the visibility of the foreign student program and may include other innovative activities. Organizations or consortia of organizations should describe overseas capacities to assist U.S. embassies and Fulbright commissions with publicity, and recruitment as specified in the attached Project, Objectives, Goals and Implementation (POGI), for academic year 2009-2010. Also detail any regional, exchange or other kinds of expertise that your organization would contribute to the effective administration of the program.

Selection: Discuss your plans for the development of a comprehensive Web site for foreign student applicants and participants; preparation and distribution of electronic application materials and selection guidelines to Fulbright commissions and PAS for academic year 2009-2010; receipt and review of recommended applications for academic year 2008-2009; making arrangements for required English language and other assessments; and preparation of participants' handbooks and orientation material. Your organization should demonstrate the capacity to both receive applications electronically from overseas and to transmit the applications electronically to the ECA/A/E regional branches and the Fulbright Scholarship Board.

Placement: Describe your organization's resources and capabilities for insuring the best and most appropriate placement of students at a full range of U.S. public and private institutions representing geographic and institutional diversity. Discuss in detail your organization's potential for securing co-funding from U.S. institutions to leverage U.S. and other sources of Fulbright funding. Detail your past success securing cost-sharing.

Supervision and Support: Describe how you will supervise and monitor foreign students including oversight of the following: enrollment in approved academic programs and academic performance; medical care and health insurance; Federal tax compliance; J visa status; renewal and extension of awards; and emergencies.

Fiscal Management: Outline your capacity to manage electronic stipend payments to participants; handle tax withholding, as required; provide reports on expenditures, and insurance; and monitor and audit internal functions and systems in accordance with U.S. government and Bureau guidelines.

English Language and Pre-Academic Training: One organization or consortium of organizations will organize and administer worldwide English language and pre-academic training programs and short-term entry orientation programs for selected Fulbright students enrolling for academic year 2008-2009, including designing criteria and estimating costs for these programs, placement and supervision of participating students, and evaluating and monitoring the programs.

Enrichment Activities: The organization or consortium of organizations administering the pre-academic and orientation programs will also administer up to eight enrichment seminars at locations around the nation for foreign students in all programs in academic year 2007-2008. The goal of these workshops is to provide students an in-depth understanding of American institutions, society and culture.

II. Award Information

Type of Award: Cooperative Agreement. ECA's level of involvement in this program is listed under number I above.

Fiscal Year Funds: 2008.

Approximate Total Funding: $10,000,000 pending availability of funds.

Approximate Number of Awards: One or more awards, in accordance with the following options:

Organizations or consortia of organizations may compete to administer the entire worldwide Fulbright Student program, comprising both the U.S. and foreign student components. Alternatively, single organizations or consortia of organizations may compete to administer the U.S. student program and/or the foreign student program based on the following guidelines:

For the U.S. Student Program, the Competition is open to:

—Single organizations or consortia of organizations wishing to administer the program worldwide.

For the Foreign Student Fulbright Program, the competition is open to:

—Single organizations or consortia of organizations wishing to administer the program worldwide or;

—Single organizations or consortia of organizations wishing to administer the foreign student program for one or more regions of the world. For the purposes of this competition, regions are defined as follows:

• Sub-Saharan Africa.

• Europe and Eurasia.

• East Asia and the Pacific.

• North Africa and the Middle East.

• South and Central Asia.

• Western Hemisphere.

Proposals must include plans to administer the Fulbright Foreign Student Program in all of the countries within a region where there currently is a program. A complete list of country programs in each region is provided in the Project Objectives, Goals and Implementation (POGI) package. Any proposal that includes countries not listed in the POGI may be declared technically ineligible.

Organizations or consortia of organizations bidding to administer the Foreign Student Fulbright Program in two or more regions must demonstrate the capacity to administer the centrally funded global foreign student programs and enrichment activities including the Fulbright Foreign Language Assistant Program, the Fulbright International Science and Technology Awards, English language and pre-academic programs, short-term orientation programs, and at least eight 3-4 day enrichment programs.

Consortia wishing to administer the worldwide U.S. Fulbright Student Program or the worldwide foreign student program should designate one organization to be the recipient of the cooperative agreement award. Applications proposing administration of the Program by a consortium should provide a detailed description of arrangements for cooperative work among the partners and between the partners and the U.S. and overseas academic communities, bilateral commissions and other entities.

The Bureau reserves the right to reduce, revise or increase proposal budgets in accordance with the needs of the program and availability of funds. In addition, it reserves the right to accept proposals in whole or in part and make an award or awards in accordance with the best interests of the Fulbright Student Program.

Anticipated Award Date: Pending availability of funds, October 1, 2007.

Anticipated Project Completion Date: September 30, 2008.

Additional Information: Pending successful implementation of this program and the availability of funds in subsequent fiscal years, it is ECA's intent to renew the grant(s) for a period of not less than four additional fiscal years, before openly competing the program again. The Bureau reserves the right to renew the award(s) beyond that period.

III. Eligibility Information

III.1. Eligible applicants: Applications may be submitted by public and private non-profit organizations or consortia of institutions meeting the provisions described in Internal Revenue Code section 26 U.S.C. 501(c)(3).

Consortia of eligible organizations applying for grants should designate one organization to be the recipient of the cooperative agreement award. Applications proposing a consortium should provide a detailed description of the responsibilities of each partner organization and arrangements for cooperative work among the partners and between the partners and overseas academic communities, binational commissions, PAS and other entities responsible for the Fulbright program.

III.2. Cost Sharing or Matching Funds: The Bureau anticipates that proposals will include significant amounts of cost-sharing in support of the Fulbright Student Program, and encourages applicants to provide maximum levels of funding in support of this initiative.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements: Bureau grant guidelines require that organizations with less than four years experience in conducting international exchanges be limited to $60,000 in Bureau funding. ECA anticipates awarding one or more cooperative agreement awards in an amount over $60,000 to support program and administrative costs required to implement this exchange program. Therefore, organizations with less than four years experience in conducting international exchanges are ineligible to apply under this competition.

IV. Application and Submission Information

Note: Please read the complete announcement before sending inquiries or submitting proposals. Once the RFGP deadline has passed, Bureau staff may not discuss this competition with applicants until the proposal review process has been completed.

IV.1 Contact Information to Request an Application Package:

Please contact the Office of Academic Exchange Programs, ECA/A/E, Room 234, U.S. Department of State, SA-44, 301 4th Street, SW., Washington, DC 20547, e-mail: fulbright@state.gov, telephone: 202-453-8135 and fax number: 202-453-8125, to request a Solicitation Package. Please refer to the Funding Opportunity Number ECA/A/E-08-01 when making your request.

Alternatively, an electronic application package may be obtained from grants.gov. Please see section IV.3f for further information.

The Solicitation Package contains the Proposal Submission Instruction (PSI) document which consists of required application forms, and standard guidelines for proposal preparation.

It also contains the Project Objectives, Goals and Implementation (POGI) document, which provides specific information, award criteria and budget instructions tailored to this competition.

IV.2. To Download a Solicitation Package Via Internet: The entire Solicitation Package may be downloaded from the Bureau's Web site at http://exchanges.state.gov/education/rfgps/menu.htm, or from the Grants.gov Web site at http://www.grants.gov.

Please read all information before downloading.

IV.3. Content and Form of Submission: Applicants must follow all instructions in the Solicitation Package. The application should be submitted per the instructions under IV.3f. “Application Deadline and Methods of Submission” section below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. The mandatory Proposal Submission Instructions (PSI) document and the Project Objectives, Goals and Implementation (POGI) document contain additional formatting and technical requirements.

IV.3c. You must have nonprofit status with the IRS at the time of application. If your organization is a private nonprofit which has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa.

The Bureau of Educational and Cultural Affairs places the highest emphasis on the secure and proper administration of Exchange Visitor (J visa) Programs and adherence by grantees and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting and other requirements. The Grantee will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 203-5029, FAX: (202) 453-8640.

Please refer to Solicitation Package for further information.

IV.3d.2 Diversity, Freedom and Democracy Guidelines. Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3d.3. Program Monitoring and Evaluation. Proposals must include a plan to monitor and evaluate the project's success, both as the activities unfold and at the end of the program. The Bureau recommends that your proposal include a draft survey questionnaire or other instrument plus a description of a methodology to use to link outcomes to original project objectives. The Bureau expects that the grantee will be able to respond to key evaluation questions, including participant satisfaction with the program, learning as a result of the program, and anticipated changes in behavior as a result of the program. The evaluation plan should include indicators that measure gains in mutual understanding as well as substantive knowledge.

Successful monitoring and evaluation depend heavily on setting clear goals and outcomes at the outset of a program. Your evaluation plan should include a description of your project's objectives, your anticipated project outcomes, and how and when you intend to measure these outcomes (performance indicators). The more that outcomes are “smart” (specific, measurable, attainable, results-oriented, and placed in a reasonable time frame), the easier it will be to conduct the evaluation. You should also show how your project objectives link to the goals of the program described in this RFGP.

We encourage you to assess the following three levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Anticipated Participant behavior, anticipated actions to apply knowledge in work or community; greater participation and responsibility in civic organizations; interpretation and explanation of experiences and new knowledge gained; continued contacts between participants, community members, and others.

Grantees will be required to provide reports analyzing their evaluation findings to the Bureau in their regular program reports. All data collected, including survey responses and contact information, must be maintained for a minimum of three years and provided to the Bureau upon request.

IV.3d.4. Describe your plans for: overall program management, staffing, coordination with ECA and with U.S. and foreign universities, Fulbright commissions and PAS of U.S. embassies. Provide a staffing plan which outlines the responsibilities of each staff person and explains which staff members will be accountable for each program responsibility. Whenever possible, streamline administrative processes.

IV.3e. Please take the following information into consideration when preparing your budget:

IV.3e.1. Applicants must submit a comprehensive line item administrative budget for the entire program or the specific portion of the program they are applying to administer. It is anticipated that funding for the cooperative agreement award(s) for program administration for all new Fulbright students will be approximately $10,000,000. Pending availability of FY 2008 funds, it is anticipated that most of the resources will come from the FY 2008 Educational and Cultural Exchange Programs Appropriation. However, it is anticipated that a total of $750,000 will be transferred to the Bureau from Economic Support Funds and other resources to administer programs for approximately 200 Pakistani students and approximately 25 Indonesian students.

IV.3e.2. Allowable costs and additional budget guidance are outlined in detail in the POGI document. Please refer to the Solicitation Package for complete budget guidelines and formatting instructions.

IV.3F. Application Deadline and Methods of Submission:

Application Deadline Date: May 3, 2007.

Reference Number: ECA/A/E-08-01.

Methods of Submission:

Applications may be submitted in one of two ways:

(1) In hard-copy, via a nationally recognized overnight delivery service (i.e., DHL, Federal Express, UPS, Airborne Express, or U.S. Postal Service Express Overnight Mail, etc.), or

(2) electronically through http://www.grants.gov.

Along with the Project Title, all applicants must enter the above Reference Number in Box 11 on the SF-424 contained in the mandatory Proposal Submission Instructions (PSI) of the solicitation document.

IV.3f.1. Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and 10 copies of the application should be sent to: U.S. Department of State, SA-44, Bureau of Educational and Cultural Affairs, Ref.: ECA/A/E-08-01. Program Management, ECA/EX/PM, Room 534. 301 4th Street, SW., Washington, DC 20547.

IV.3f.2.—Submitting Electronic Applications. Applicants have the option of submitting proposals electronically through Grants.gov (http://www.grants.gov). Complete solicitation packages are available at Grants.gov in the “Find” portion of the system. Please follow the instructions available in the ‘Get Started' portion of the site (http://www.grants.gov/GetStarted). Several of the steps in the Grants.gov registration process could take several weeks. Therefore, applicants should check with appropriate staff within their organizations immediately after reviewing this RFGP to confirm or determine their registration status with Grants.gov. Once registered, the amount of time it can take to upload an application will vary depending on a variety of factors including the size of the application and the speed of your Internet connection. Therefore, we strongly recommend that you not wait until the application deadline to begin the submission process through Grants.gov.

Direct all questions regarding Grants.gov registration and submission to: Grants.gov Customer Support,

Contact Center Phone: 800-518-4726,

Business Hours: Monday-Friday, 7 a.m.-9 p.m. Eastern Time,

E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov Web portal to ensure that proposals have been received by Grants.gov in their entirety, and ECA bears no responsibility for data errors resulting from transmission or conversion processes.

IV.3g. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as Public Affairs Sections overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

Review Criteria

Technically eligible applications will be competitively reviewed according to the criteria stated below. These criteria are not rank ordered and all carry equal weight in the proposal evaluation:

1. Quality of the program idea: Proposals should display an understanding of and respect for the goals and distinguished traditions of the Fulbright program, as reflected in the requirements and priorities of this RFGP. Proposals should demonstrate a commitment to excellence and creativity in the implementation and management of this program, including the recruitment of U.S. students, quality of preacademic and enrichment workshops, and placement of foreign students.

2. Program planning: Proposals should respond precisely to the planning requirements outlined in the RFGP. Planning should demonstrate substantive rigor. A detailed agenda and relevant work plan, including a timeline, should demonstrate feasibility and the applicant's logistical capacity to implement the program.

3. Ability to achieve program objectives: Proposals should demonstrate clearly how the applicant will fulfill the program's objectives and implement plans, while demonstrating innovation and a commitment to academic excellence. Proposals should demonstrate a capacity for flexibility in the management of the program.

4. Institutional Capacity: Proposed personnel and institutional resources should be adequate and appropriate to achieve program goals. Applicants should demonstrate established links to institutions of higher education in the U.S and knowledge of the overseas educational environment, particularly an awareness of conditions in societies and educational institutions outside the United States as they apply to academic exchange programs. Applicants should demonstrate prior experience or the capacity to negotiate significant cost savings for foreign students from American institutions of higher education. Applicants should also demonstrate their capacity to provide an information management/database system that meets program requirements, is compatible with the Bureau's systems, and provides for electronic applications, electronic data storage, and electronic payment of stipends.

5. Institution's Record/Ability: Proposals should demonstrate an institutional record of managing successful exchange programs, including significant experience in developing and administering international academic exchange programs, sound fiscal management and full compliance with all reporting requirements for past Bureau cooperative agreements as determined by Bureau Grants Staff. In its review of proposals, the Bureau will consider the past performance of prior recipients and the demonstrated potential of new applicants.

6. Support of Diversity: Proposals should demonstrate substantive support of the Bureau's policy on diversity. Achievable and relevant features should be cited in both program administration (recruitment and selection of participants, academic placements and program evaluation) and program content (orientation and enrichment programs, program meetings, resource materials). Proposals should articulate a diversity plan, not just a statement of compliance.

7. Project Evaluation: Proposals should include a plan to evaluate the program's success, both as the activities unfold and at the end of the program. The Bureau recommends that proposals include a draft survey questionnaire or other instrument plus description of a methodology to use to link outcomes to original objectives.

8. Cost-effectiveness: The overhead and administrative components of the proposal, including salaries, should be kept as low as possible while adequate and appropriate to provide the required services. Proposals should document plans to realize cost-savings and other efficiencies through use of technology, administrative streamlining, and other management techniques.

9. Cost-sharing: Proposals should demonstrate maximum cost-sharing. Preference will be given to proposals which demonstrate innovative approaches to leveraging of funds, and other sharing of costs.

VI. Award Administration Information

VI.1a. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2 Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments”.

OMB Circular No. A-110 (Revised), Uniform Administrative Requirements for Grants and Agreements with Institutions of Higher Education, Hospitals, and other Nonprofit Organizations.

OMB Circular No. A-102, Uniform Administrative Requirements for Grants-in-Aid to State and Local Governments.

OMB Circular No. A-133, Audits of States, Local Government, and Non-profit Organizations.

Please reference the following Web sites for additional information: http://www.whitehouse.gov/omb/grants. http://exchanges.state.gov/education/grantsdiv/terms.htm#articleI.

VI.3. Reporting Requirements

You must provide ECA with a hard copy original plus two copies of the following reports:

A final program and financial report no more than 90 days after the expiration of the award; quarterly financial reports, annual program reports and ad hoc program reports as requested by ECA/A/E.

All data collected, including survey responses and contact information, must be maintained for a minimum of three years and provided to the Bureau upon request.

All reports must be sent to the ECA Grants Officer and ECA Program Officer listed in the final assistance award document.

VII. Agency Contacts

For questions about this announcement, contact: Mr. Matthew McMahon, Office of Academic Exchange Programs, ECA/A/E, Room 234, ECA/A/E-08-01, U.S. Department of State, SA-44, 301 4th Street, SW., Washington, DC 20547, e-mail: McMahonMP@state.gov, phone: (202) 453-8135, and fax: (202) 453-8126.

All correspondence with the Bureau concerning this RFGP should reference the above title and number ECA/A/E-08-01.

Please read the complete announcement before sending inquiries or submitting proposals. All inquiries about the RFGP or any aspect of the Fulbright Student Program should be submitted in writing via e-mail to Mr. McMahon. Any questions or requests for information from overseas Fulbright commissions or Public Affairs Sections of U.S. embassies should be submitted in writing via e-mail to Mr. McMahon for transmission to those overseas offices. Once the RFGP deadline has passed, Bureau staff may not discuss this competition with applicants until the proposal review process has been completed.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: January 31, 2007.
Dina Habib Powell,
Assistant Secretary for Educational and Cultural Affairs, Department of State.

[FR Doc. E7-2107 Filed 2-7-07; 8:45 am]

BILLING CODE 4710-05-P